DEPARTMENT OF TRANSPORTATION

Federal Aviation Administration

14 CFR Part 39

[Docket No. FAA-2007-28989; Directorate Identifier 2007-NM-070-AD; Amendment 39-15319; AD 2007-26-17]

RIN 2120-AA64

Airworthiness Directives; Boeing Model 747 Airplanes

AGENCY: Federal Aviation Administration (FAA), Department of Transportation (DOT).

ACTION: Final rule.

SUMMARY: The FAA is superseding an existing airworthiness directive (AD), which applies to certain Boeing Model 747-200B, 747-200C, 747-200F, 747-300, 747-400, and 747SP series airplanes. That AD currently requires doing a detailed inspection of the left and right longeron extension fittings, and corrective action if necessary. This new AD adds airplanes to the applicability of the existing AD. This AD results from reports that accidental drilling damage to the longeron extension fittings was found on airplanes not subject to the existing AD. We are issuing this AD to detect and correct accidental drilling damage of the longeron extension fittings, which could lead to cracking of the longeron extension fittings and result in rapid decompression of the airplane.

DATES: This AD becomes effective February 11, 2008.

The Director of the Federal Register approved the incorporation by reference of a certain publication listed in the AD as of February 11, 2008.

On June 16, 2006 (71 FR 27592, May 12, 2006), the Director of the Federal Register approved the incorporation by reference of Boeing Alert Service Bulletin 747-53A2515, dated October 20, 2005.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Ivan Li, Aerospace Engineer, Airframe Branch, ANM-120S, FAA, Seattle Aircraft Certification Office, 1601 Lind Avenue, SW., Renton, Washington 98057-3356; telephone (425) 917-6437; fax (425) 917-6590.

SUPPLEMENTARY INFORMATION:

Discussion

The FAA issued a notice of proposed rulemaking (NPRM) to amend 14 CFR part 39 to include an AD that supersedes AD 2006-10-04, amendment 39-14588 (71 FR 27592, May 12, 2006). The existing AD applies to certain Boeing Model 747-200B, 747-200C, 747-200F, 747-300, 747-400, and 747SP series airplanes. That NPRM was published in the Federal Register on August 16, 2007 (72 FR 45973). That NPRM proposed to continue to require doing a detailed inspection of the left and right longeron extension fittings, and corrective action if necessary. That NPRM also proposed to add airplanes to the applicability of the existing AD.

Comments

We gave the public the opportunity to participate in developing this AD. We considered the single comment received. Boeing supports the NPRM.

Clarification of Service Bulletins

Where paragraphs (h) and (i) of the NPRM referred to “the alert service bulletin” and “the service bulletin,” we have specified the number, revision level and date of those service bulletins for clarity.

Conclusion

We reviewed the relevant data, considered the comment received, and determined that air safety and the public interest require adopting the AD with the changes described previously. We also determined that these changes will not increase the economic burden on any operator or increase the scope of the AD.

Interim Action

We consider this AD interim action. If final action is later identified, we might consider further rulemaking then.

Costs of Compliance

There are about 876 airplanes of the affected design in the worldwide fleet. This AD affects about 156 airplanes of U.S. registry.

The actions specified by this AD were previously required by AD 2006-10-04, which was applicable to approximately 25 airplanes of U.S. registry. The actions required by that AD take about 1 work hour per airplane. We estimated the cost of the current requirements of that AD on U.S. operators to be $2,000, or $80 per airplane. Some operators of the 25 airplanes subject to AD 2006-10-04 may have already initiated the required actions. This AD adds no new costs associated with those airplanes.

This AD is applicable to approximately 131 additional airplanes of U.S. registry. New actions required by this AD take about 1 work hour per airplane. Based on the current labor rate of $80 per work hour, we estimate the new costs imposed by this AD on U.S. operators to be $10,480, or $80 per airplane. This figure is based on assumptions that no operator of these additional airplanes has yet done any of the requirements of this AD, and that no operator would do those actions in the future if this AD were not adopted.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14588 (71 FR 27592, May 12, 2006) and by adding the following new airworthiness directive (AD):

2007-26-17 Boeing: Amendment 39-15319. Docket No. FAA-2007-28989; Directorate Identifier 2007-NM-070-AD.

Effective Date

(a) This AD becomes effective February 11, 2008.

Affected ADs

(b) This AD supersedes AD 2006-10-04.

Applicability

(c) This AD applies to Boeing Model 747-100, 747-100B, 747-100B SUD, 747-200B, 747-200C, 747-200F, 747-300, 747-400, 747-400D, 747-400F, 747SR, and 747SP series airplanes, certificated in any category; as identified in Boeing Alert Service Bulletin 747-53A2515, Revision 1, dated March 1, 2007.

Unsafe Condition

(d) This AD results from reports that accidental drilling damage to the longeron extension fittings was found on airplanes not subject to the existing AD. We are issuing this AD to detect and correct accidental drilling damage of the longeron extension fittings, which could lead to cracking of the longeron extension fittings and result in rapid decompression of the airplane.

Compliance

(e) You are responsible for having the actions required by this AD performed within the compliance times specified, unless the actions have already been done.

Restatement of Certain Requirements of AD 2006-10-04

Detailed Inspection

(f) For Group 1 airplanes identified in Boeing Alert Service Bulletin 747-53A2515, Revision 1, dated March 1, 2007: At the applicable compliance time specified in paragraph (f)(1) or (f)(2) of this AD, do a detailed inspection of the left and right longeron extension fittings for damage, and, before further flight, do the corrective action if applicable, by accomplishing all the applicable actions specified in the Accomplishment Instructions of Boeing Alert Service Bulletin 747-53A2515, dated October 20, 2005; or Revision 1, dated March 1, 2007.

Note 1: Boeing Alert Service Bulletin 747-53A2515, dated October 20, 2005; and Revision 1, dated March 1, 2007; refer to Boeing Alert Service Bulletin 747-53A2390, Revision 1, dated July 6, 2000, as an additional source of service information for replacing a damaged longeron fitting with a new longeron extension fitting.

(1) For airplanes that have accomplished the inspection of the splice area for cracking as specified in Boeing Alert Service Bulletin 747-53A2390, dated July 31, 1997; or Revision 1, dated July 6, 2000: Inspect in accordance with paragraph (f) of this AD before the airplane has accumulated 10,000 total flight cycles, or within 1,000 flight cycles after June 16, 2006 (the effective date of AD 2006-10-04), whichever is later.

(2) For airplanes that have not accomplished the inspection of the splice area for cracking as specified in Boeing Alert Service Bulletin 747-53A2390, dated July 31, 1997; or Revision 1, dated July 6, 2000: Inspect in accordance with paragraph (f) of this AD before the airplane has accumulated 10,000 total flight cycles, or within 250 flight cycles after June 16, 2006, whichever is later.

New Requirements of This AD

Detailed Inspection of Additional Airplanes

(g) For Group 2 and Group 3 airplanes identified in Boeing Alert Service Bulletin 747-53A2515, Revision 1, dated March 1, 2007: Except as provided by paragraphs (h) and (i) of this AD, at the applicable time specified in paragraph 1.E of Boeing Alert Service Bulletin 747-53A2515, Revision 1, dated March 1, 2007, do a detailed inspection of the left and right longeron extension fittings for damage and, before further flight, do the corrective action, as applicable; by accomplishing all the applicable actions specified in the Accomplishment Instructions of the alert service bulletin.

Compliance Times

(h) Where the Boeing Alert Service Bulletin 747-53A2515, dated October 20, 2005; or Revision 1, dated March 1, 2007; specify compliance times relative to the release date of the alert service bulletin, this AD requires compliance at compliance times relative to the effective date of this AD.

Repair of Certain Conditions

(i) If any damage is found during any inspection required by this AD and Boeing Alert Service Bulletin 747-53A2515, Revision 1, dated March 1, 2007, specifies to contact Boeing for appropriate action: Before further flight, repair the damage using a method approved in accordance with the procedures specified in paragraph (k) of this AD.

Credit for Actions Done Using Previous Service Information

(j) Actions done before the effective date of this AD in accordance with Boeing Alert Service Bulletin 747-53A2515, dated October 20, 2005, are considered acceptable for compliance with the corresponding actions of this AD.

Alternative Methods of Compliance (AMOCs)

(k)(1) The Manager, Seattle Aircraft Certification Office (ACO), FAA, has the authority to approve AMOCs for this AD, if requested in accordance with the procedures found in 14 CFR 39.19.

(2) AMOCs approved previously in accordance with AD 2006-10-04, are approved as AMOCs for the corresponding provisions of this AD.

(3) To request a different method of compliance or a different compliance time for this AD, follow the procedures in 14 CFR 39.19. Before using any approved AMOC on any airplane to which the AMOC applies, notify your appropriate principal inspector (PI) in the FAA Flight Standards District Office (FSDO), or lacking a PI, your local FSDO.

(4) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(l) You must use Boeing Alert Service Bulletin 747-53A2515, dated October 20, 2005; or Boeing Alert Service Bulletin 747-53A2515, Revision 1, dated March 1, 2007; as applicable, to perform the actions that are required by this AD, unless the AD specifies otherwise.

(1) The Director of the Federal Register approved the incorporation by reference of Boeing Alert Service Bulletin 747-53A2515, Revision 1, dated March 1, 2007, in accordance with 5 U.S.C. 552(a) and 1 CFR part 51.

(2) On June 16, 2006 (71 FR 27592, May 12, 2006), the Director of the Federal Register approved the incorporation by reference of Boeing Alert Service Bulletin 747-53A2515, dated October 20, 2005.

(3) Contact Boeing Commercial Airplanes, P.O. Box 3707, Seattle, Washington 98124-2207, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on December 20, 2007.
Ali Bahrami,
Manager, Transport Airplane Directorate, Aircraft Certification Service.

[FR Doc. E7-25500 Filed 1-4-08; 8:45 am]

BILLING CODE 4910-13-P